OVERSEAS PRIVATE INVESTMENT CORPORATION

Sunshine Act Meeting

Time and Date: Thursday, April 29, 2004, 9 a.m. (open portion), 9:15 a.m. (closed portion).

Place: Offices of the Corporation, Twelfth Floor Board Room, 1100 New York Avenue, NW., Washington, DC.

Status: Meeting open to the public from 9 a.m. to 9:15 a.m. Closed portion will commence at 9:15 a.m. (approx.).

Matters to be Considered: 1. President's Report.

2. Approval of January 29, 2004, Minutes (open portion).

3. Testimonial—Gary A. Barron.

4. Testimonial—John B. Taylor.

FURTHER MATTERS TO BE CONSIDERED: (Closed to the public 9:15 a.m.)

1. Auditors Report to the Board.

2. Finance Project—Iraq.

3. Insurance Project—Iraq.

4. Insurance Project—Egypt.

5. Finance Project—Central and Eastern Europe.

6. Finance Project—Asia.

7. Finance Project—Asia.

8. Finance Project—Nigeria.

9. Finance Project—Chile.

10. Finance Project—Multi-country.

11. Finance Project—Global.

12. Approval of January 29, 2004, Minutes (closed portion).

13. Pending Major Projects.

14. Reports.

Contact Person for Information: Information on the meeting may be obtained from Connie M. Downs at (202) 336-8438.

Dated: April 15, 2004.
Connie M. Downs,
Corporate Secretary, Overseas Private Investment Corporation.

[FR Doc. 04-9705 Filed 4-26-04; 11:30 am]

BILLING CODE 3210-01-M